FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10005 | ANB Financial, NA | Bentonville | AR | 05/09/2008
10012 | Integrity Bank | Alpharetta | GA | 08/29/2008
10018 | Alpha Bank and Trust | Alpharetta | GA | 10/24/2008
10020 | Security Pacific Bank | Los Angeles | CA | 11/07/2008
10022 | The Community Bank | Loganville | GA | 11/21/2008
10030 | 1st Centennial Bank | Redlands | CA | 01/23/2009
10031 | MagnetBank | Salt Lake City | UT | 01/30/2009
10037 | Corn Belt Bank and Trust Company | Pittsfield | IL | 02/13/2009
10038 | Riverside Bank of the Gulf Coast | Cape Coral | FL | 02/13/2009
10121 | Irwin Union, FSB | Louisville | KY | 09/18/2009
10199 | Appalachian Community Bank | Ellijay | GA | 03/19/2010
10215 | Lakeside Community Bank | Sterling Heights | MI | 04/16/2010
10291 | Maritime Savings Bank | West Allis | WI | 09/17/2010

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Section, 600 North Pearl, Suite 700, Dallas, TX 75201.

No comments concerning the termination of the above-mentioned receiverships will be considered which are not sent within this timeframe.

(Authority: 12 U.S.C. 1819)

Federal Deposit Insurance Corporation.
Dated at Washington, DC, on August 3, 2022.
James P. Sheesley,
Assistant Executive Secretary.

[FR Doc. 2022-17203 Filed 8-10-22; 8:45 am]

BILLING CODE 6714-01-P